DEPARTMENT OF TRANSPORTATION

Surface Transportation Board

[Docket No. FD 35676 (Sub-No. 1)]

BNSF Railway Company—Temporary Trackage Rights Exemption—Union Pacific Railroad Company

AGENCY: Surface Transportation Board, DOT.

ACTION: Notice, correction.

SUMMARY: This document corrects a notice appearing in the Federal Register on December 3, 2012 (77 FR 71,680).

FOR FURTHER INFORMATION CONTACT: Scott M. Zimmerman, (202) 245-0386. [Assistance for the hearing impaired is available through the Federal Information Relay Service (FIRS) at 1-800-877-8339.]

SUPPLEMENTARY INFORMATION: On December 3, 2012, the Federal Register published a notice at 77 FR 71,680 regarding Docket No. FD 35676 (Sub-No. 1). The notice contained incorrect dates under the DATES caption. The DATES caption should read:

DATES: This decision is effective on December 30, 2012. Petitions to stay must be filed by December 10, 2012. Petitions for reconsideration must be filed by December 20, 2012.

Dated: December 3, 2012.
By the Board, Rachel D. Campbell, Director, Office of Proceedings.
Jeffrey Herzig,
Clearance Clerk.

[FR Doc. 2012-29587 Filed 12-6-12; 8:45 am]

BILLING CODE 4915-01-P